DEPARTMENT OF HOMELAND SECURITY

Coast Guard

33 CFR Part 100

[Docket No. USCG-2018-0795]

Special Local Regulations for Marine Events; San Francisco Bay Navy Fleet Week Parade of Ships and Blue Angels Demonstration, San Francisco, CA

AGENCY: Coast Guard, DHS.

ACTION: Notice of enforcement of regulation.

SUMMARY: The Coast Guard will enforce the special local regulations in the navigable waters of the San Francisco Bay for the San Francisco Bay Navy Fleet Week Parade of Ships and Blue Angels Demonstration from October 4 through October 7, 2018. This action is necessary to ensure the safety of event participants and spectators. During the enforcement period, unauthorized persons or vessels are prohibited from entering into, transiting through, or anchoring in the regulated area, unless authorized by the Patrol Commander (PATCOM).

DATES: The regulations in 33 CFR 100.1105 will be enforced from 10:30 a.m. until 12:30 p.m. on October 5, 2018; from 12:50 p.m. until 5 p.m. on October 4, 2018; from 12:50 p.m. until 4 p.m. on October 5, 2018; and from 12:35 p.m. until 4 p.m. on October 6 through 7, 2018 as identified in the SUPPLEMENTARY INFORMATION section below.

FOR FURTHER INFORMATION CONTACT: If you have questions on this notice of enforcement, call or email Lieutenant Emily Rowan, U.S. Coast Guard Sector San Francisco; telephone (415) 399-7443 or email at D11-PF-MarineEvents@uscg.mil.

SUPPLEMENTARY INFORMATION: The Coast Guard will enforce the special local regulation for the annual San Francisco Bay Navy Fleet Week Parade of Ships and Blue Angels Demonstration in 33 CFR 100.1105.

Regulations for the Navy Parade of Ships will be enforced from 10:30 a.m. until 12:30 p.m. on October 5, 2018; the U.S. Navy Blue Angels Activities will be enforced from 12:50 p.m. until 5 p.m. on October 4, 2018, and from 12:50 p.m. until 4 p.m. on October 5, 2018, and from 12:35 p.m. until 4 p.m. on October 6 through 7, 2018. Under the provisions of 33 CFR 100.1105, except for persons or vessels authorized by the PATCOM, in regulated area “Alpha” no person or vessel may enter or remain within 500 yards ahead of any Navy parade vessel. No person or vessel shall anchor, block, loiter in, or impede the through transit of ship parade participants or official patrol vessels in regulated area “Alpha.”

Except for persons or vessels authorized by the PATCOM, no person or vessel may enter or remain within regulated area “Bravo.”

When hailed and/or signaled by U.S. Coast Guard patrol personnel by siren, radio, flashing light, or other means, a person or vessel shall come to an immediate stop. Persons or vessels shall comply with all directions given; failure to do so may result in expulsion from the area, citation for failure to comply, or both. The Coast Guard may be assisted by other Federal, State, or local law enforcement agencies in enforcing this regulation.

The PATCOM shall be designated by the Commander, Coast Guard Sector San Francisco, California. The PATCOM is empowered to forbid and control the movement of all vessels in the regulated area.

This notice of enforcement is issued under authority of 33 U.S.C. 1233. In addition to this notification in the Federal Register, the Coast Guard will provide the maritime community with extensive advance notification of the regulated area and its enforcement period via the Local Notice to Mariners, and Broadcast Notice to Mariners.

Dated: September 20, 2018.
Anthony J. Ceraolo,
Captain, U.S. Coast Guard, Captain of the Port San Francisco.

[FR Doc. 2018-21094 Filed 9-27-18; 8:45 am]

BILLING CODE 9110-04-P